DEPARTMENT OF AGRICULTURE

Grain Inspection, Packers and Stockyards Administration

Designation for the Sacramento (CA), Frankfort (IN), Indianapolis (IN), and Virginia Areas

AGENCY: Grain Inspection, Packers and Stockyards Administration, USDA.

ACTION: Notice.

SUMMARY: We are announcing designation of the following organizations to provide official services under the United States Grain Standards Act, as amended (USGSA): California Agri Inspection Company, Ltd. (California Agri); Frankfort Grain Inspection, Inc. (Frankfort); Indianapolis Grain Inspection & Weighing Service, Inc. (Indianapolis); and Virginia Department of Agriculture and Consumer Services (Virginia).

EFFECTIVE DATE: January 1, 2007.

FOR FURTHER INFORMATION CONTACT: Karen Guagliardo at 202-720-7312, e-mail Karen.W.Guagliardo@usda.gov.

SUPPLEMENTARY INFORMATION: In the June 16, 2006, Federal Register (71 FR 34882-34883), we requested applications for designation to provide official services in the geographic areas assigned to the official agencies named above. Applications were due by July 14, 2006.

There were two applicants for the Sacramento area: California Agri and Mid-Iowa Grain Inspection, Inc. (Mid-Iowa); both are currently designated official agencies. Mid-Iowa withdrew its application. Frankfort, Indianapolis, and Virginia were the sole applicants for designation to provide official services in the entire area currently assigned to them, so GIPSA did not ask for additional comments on them.

We evaluated all available information regarding the designation criteria in Section 7(f)(l)(A) of USGSA (7 U.S.C. 79(f)) and, according to Section 7(f)(l)(B), determined that California Agri, Frankfort, Indianapolis, and Virginia are able to provide official services in the geographic areas specified in the June 16, 2006, Federal Register, for which they applied. You may obtain official services by calling the telephone numbers listed below.

Official agency | Headquarters location and telephone | Designation start—end
California Agri | West Sacramento, CA, (916) 375-5809 | 1/01/2007-12/31/2009
Frankfort | Frankfort, IN, (765) 258-3624 | 1/01/2007-12/31/2009
Indianapolis | Indianapolis, IN, (317) 899-2337 | 1/01/2007-12/31/2009
Virginia | Richmond, VA, (757) 494-2464 | 1/01/2007-12/31/2009

Authority: 7 U.S.C. 71 et seq.

James E. Link,
Administrator, Grain Inspection, Packers and Stockyards Administration.

[FR Doc. E6-20906 Filed 12-7-06; 8:45 am]

BILLING CODE 3410-KD-P